DEPARTMENT OF THE TREASURY

Departmental Offices; Debt Management Advisory Committee Meeting

Notice is hereby given, pursuant to 5 U.S.C. App. 2, § 10(a)(2), of a time change for a previously scheduled meeting held at the Hay-Adams Hotel, 16th Street and Pennsylvania Avenue, NW., Washington, DC, on February 2, 2010. The meeting of the following debt management advisory committee: Treasury Borrowing Advisory Committee of The Securities, Industry and Financial Markets Association, was previously scheduled to start at 8:30 a.m. The new start time for the meeting shall be 8 a.m.

The Office of Debt Management is responsible for maintaining records of debt management advisory committee meetings and for providing annual reports setting forth a summary of Committee activities and such other matters as may be informative to the public consistent with the policy of 5 U.S.C. 552(b). The Designated Federal Officer or other responsible agency official who may be contacted for additional information is Fred Pietrangeli, Deputy Director for Office of Debt Management (202) 622-1876.

Dated: January 12, 2010.
Fred Pietrangeli,
Deputy Director, Office of Debt Management.

[FR Doc. 2010-881 Filed 1-19-10; 8:45 am]

BILLING CODE 4810-25-M